DEPARTMENT OF THE TREASURY

Submission for OMB Review; Comment Request

November 29, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before January 4, 2002, to be assured of consideration.

Departmental Offices/Office of Foreign Exchange Operations/Market Room

OMB Number: 1505-0010.

Form Number: FC-2.

Type of Review: Revision.

Title: Monthly Consolidated Foreign Currency Report of Major Market Participants.

Description: Collection of information on Form FC-2 is required by law. Form FC-2 is designed to collect timely information on foreign exchange spot, forward, and futures purchased and sold; net options positions, delta equivalent value long or short; and net reported dealing position long or short.

Respondents: Business or other for-profit, Not-for-profit institutions.

Estimated Number of Respondents: 22.

Estimated Burden Hours Per Respondent: 4 hours.

Frequency of Response: Monthly.

Estimated Total Reporting Burden: 1,056 hours.

OMB Number: 1505-0012.

Form Number: FC-1.

Type of Review: Revision.

Title: Weekly Consolidated Foreign Currency Report of Major Market Participants.

Description: Collection of information on Form FC-1 is required by law. Form FC-1 is designed to collect timely information on foreign exchange spot, forward, and futures purchased and sold; net options positions, delta equivalent value long or short; and net reported dealing position long or short.

Respondents: Business or other for-profit, Not-for-profit institutions.

Estimated Number of Respondents: 22.

Estimated Burden Hours Per Respondent: 1 hour.

Frequency of Response: Weekly.

Estimated Total Reporting Burden: 1,144 hours.

OMB Number: 1505-0014.

Form Number: FC-3.

Type of Review: Revision.

Title: Quarterly Consolidated Foreign Currency Report of Major Market Participants.

Description: Collection of information on Form FC-3 is required by law. Form FC-1 is designed to collect timely information on foreign exchange spot, forward, and futures purchased and sold; net options positions, delta equivalent value long or short; and net reported dealing position long or short.

Respondents: Business or other for-profit, Not-for-profit institutions.

Estimated Number of Respondents: 60.

Estimated Burden Hours Per Respondent: 8 hours.

Frequency of Response: Quarterly.

Estimated Total Reporting Burden: 1,920 hours.

Clearance Officer: Lois K. Holland, (202) 622-1563, Departmental Offices, Room 2110, 1425 New York Avenue, NW, Washington, DC 20220.

OMB Reviewer: Alexander T. Hunt, (202) 395-7860, Office of Management and Budget, Room 10202, New Executive Office Building, Washington, DC 20503.

Lois K. Holland,
Departmental Reports Management Officer.

[FR Doc. 01-30104 Filed 12-4-01; 8:45 am]

BILLING CODE 4810-25-P